DEPARTMENT OF ENERGY

Federal Energy Regulatory Commission

Combined Notice of Filings

Take notice that the Commission has received the following Natural Gas Pipeline Rate and Refund Report filings:

Filings Instituting Proceedings

Docket Numbers: RP14-647-000.

Applicants: TC Offshore LLC.

Description: TC Offshore LLC Transporter's Use Report for Calendar Year 2013.

Filed Date: 3/27/14.

Accession Number: 20140327-5074.

Comments Due: 5 p.m. ET 4/8/14.

Docket Numbers: RP14-648-000.

Applicants: Elba Express Company, L.L.C.

Description: 2013 Annual Interruptible Revenue Crediting Report.

Filed Date: 3/27/14.

Accession Number: 20140327-5163.

Comments Due: 5 p.m. ET 4/8/14.

Docket Numbers: RP14-649-000.

Applicants: Midcontinent Express Pipeline LLC.

Description: Negotiated Rate—Tenaska to be effective 4/1/2014.

Filed Date: 3/28/14.

Accession Number: 20140328-5004.

Comments Due: 5 p.m. ET 4/9/14.

Docket Numbers: RP14-650-000.

Applicants: ANR Pipeline Company.

Description: DTCA 2014 to be effective 5/1/2014.

Filed Date: 3/28/14.

Accession Number: 20140328-5017.

Comments Due: 5 p.m. ET 4/9/14.

Docket Numbers: RP14-651-000.

Applicants: Panhandle Eastern Pipe Line Company, LP.

Description: Flow Through of Penalty Revenues Report filed on 3-28-14.

Filed Date: 3/28/14.

Accession Number: 20140328-5029.

Comments Due: 5 p.m. ET 4/9/14.

Docket Numbers: RP14-652-000.

Applicants: Vector Pipeline L.P.

Description: 2014 Annual Fuel Use Report of Vector Pipeline L.P.

Filed Date: 3/28/14.

Accession Number: 20140328-5033.

Comments Due: 5 p.m. ET 4/9/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1041-002.

Applicants: Iroquois Gas Transmission System, L.P.

Description: 03/27/14 Reservation Charge Credit Correction to be effective 1/1/2014.

Filed Date: 3/27/14.

Accession Number: 20140327-5164.

Comments Due: 5 p.m. ET 4/8/14.

Docket Numbers: RP13-1245-002.

Applicants: Gulf South Pipeline Company, LP.

Description: Compliance filing in Docket No. RP13-1245-000 to be effective 4/1/2014.

Filed Date: 3/27/14.

Accession Number: 20140327-5102.

Comments Due: 5 p.m. ET 4/8/14.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2014.
Nathaniel J. Davis, Sr.,
Deputy Secretary.

[FR Doc. 2014-07791 Filed 4-7-14; 8:45 am]

BILLING CODE 6717-01-P